DEPARTMENT OF HEALTH AND HUMAN SERVICES

National Institutes of Health

Fogarty International Center; Amended Notice of Meeting

Notice is hereby given of a change in the meeting of the Fogarty International Center Advisory Board, February 9, 2026, 9:00 a.m. to February 10, 2026, 5:00 p.m., Fogarty International Center National Institutes of Health, Lawton Chiles International House (Stone House), Bethesda, MD 20892 which was published in the Federal Register on October 1, 2025, FR Doc. No. 2025-19110, 90 FR 47314.

This notice is being amended to change the meeting date from February 9-10, 2026 to March 26-27, 2026. The meeting is partially closed to the public.

Dated: January 20, 2026.
Margaret N. Vardanian,
Program Analyst, Office of Federal Advisory Committee Policy.

[FR Doc. 2026-01418 Filed 1-23-26; 8:45 am]

BILLING CODE 4140-01-P